COMMITTEE FOR PURCHASE FROM PEOPLE WHO ARE BLIND OR SEVERELY DISABLED

Procurement List Proposed Additions and Deletions

AGENCY: Committee for Purchase From People Who Are Blind or Severely Disabled.

ACTION: Proposed additions to and deletions from the Procurement List.

SUMMARY: The Committee is proposing to add to the Procurement List products to be furnished by nonprofit agencies employing persons who are blind or have other severe disabilities, and to delete products and services previously furnished by such agencies.

Comments Must Be Received on or Before: July 8, 2007.

ADDRESSES: Committee for Purchase From People Who Are Blind or Severely Disabled, Jefferson Plaza 2, Suite 10800, 1421 Jefferson Davis Highway, Arlington, VA 22202-3259.

FOR FURTHER INFORMATION OR TO SUBMIT COMMENTS CONTACT: Kimberly M. Zeich, Telephone: (703) 603-7740, Fax: (703) 603-0655, or e-mail CMTEFedReg@jwod.gov.

Additions

If the Committee approves the proposed additions, the entities of the Federal Government identified in this notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

File, Folder, Classification

NSN: 7530-00-NIB-0816—Dark Green, Letter Size

NSN: 7530-00-NIB-0817—Light Blue, Letter Size

NSN: 7530-00-NIB-0818—Dark Blue, Letter Size

NSN: 7530-00-NIB-0819—Yellow, Letter Size

NSN: 7530-00-NIB-0820—Dark Red, Letter Size

NSN: 7530-00-NIB-0821—Earth Red, Letter Size

NPA: Georgia Industries for the Blind, Bainbridge, GA.

Coverage: 100%—A-List for the total Government requirement as specified by the General Services Administration.

Retractable Markers

NSN: 7520-00-NIB-1653—chisel tip, yellow 4/PK

NSN: 7520-00-NIB-1654—chisel tip, yellow 12/PK

NSN: 7520-00-NIB-1663—permanent ink, chisel tip, black, 4/PK

NSN: 7520-00-NIB-1665—permanent ink, bullet tip, 4/PK (black, red, blue, green)

NSN: 7520-00-NIB-1666—permanent ink, chisel tip, 4/PK (black, blue, red, green)

NSN: 7520-00-NIB-1773—chisel tip, 10 color set (3 yellow, 2 pink, 1 orange, 2 green, 2 blue)

NSN: 7520-00-NIB-1788—chisel tip, 5 color set (yellow, blue, pink, green, orange)

NSN: 7520-00-NIB-1789—permanent ink, bullet tip, black, 4/PK

NSN: 7520-01-519-5769—dry erase, chisel tip, 4/PK assorted colors (black, blue, red, green)

NPA: Dallas Lighthouse for the Blind, Inc., Dallas, TX.

Coverage: 100%—A-List for the total Government requirement as specified by the General Services Administration.

Contracting Activity: General Services Administration, Region 2, Office Supplies & Paper Products Acquisition Ctr, New York, NY.

Notebook Security Cable

NSN: 5340-01-384-2016—Notebook Security Cable.

NPA: Alphapointe Association for the Blind, Kansas City, MO.

Coverage: 100%—A-List for the total Government requirement as specified by the General Services Administration.

Power Duster (Dust Remover, Compressed Gas)

NSN: 7930-01-398-2473—10 oz. pressurized air duster removes dust, dirt and other contaminants from computers, keyboards, printers, electronic and photo equipment.

NPA: Lighthouse for the Blind, St. Louis, MO.

Coverage: 100%—A-List for the total Government requirement as specified by the General Services Administration.

Contracting Activity: GSA, Southwest Supply Center, Fort Worth, TX.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Cotton, Purified

NSN: 6510-00-201-3000—Cotton, Purified.

NPA: Elwyn, Inc., Aston, PA.

Contracting Activity: Defense Supply Center Philadelphia, Philadelphia, PA.

Film, Copying, Transparent, Ink Jet Process

NSN: 7530-01-325-0618—Film, Copying, Transparent, Ink Jet Process.

Transparency Film, Xerographic

NSN: 7530-01-386-2356—Transparency Film, Xerographic w/o Strip.

NPA: Industries of the Blind, Inc., Greensboro, NC.

Contracting Activity: General Services Administration, Region 2, Office Supplies & Paper Products Acquisition Ctr, New York, NY.

Services

Service Type/Location: Completion of DD Form 1574 & 1574-1, Robins Air Force Base, Robins AFB, GA.

NPA: Good Vocations, Inc., Macon, GA.

Contracting Activity: Department of the Air Force, Robins AFB, GA.

Service Type/Location: Hearing/Grievance Examiner Services (IB), The Corporation for National & Community Service, 1201 New York Avenue, NW., Washington, DC.

NPA: Federal Dispute Resolution Center, Alexandria, VA.

Contracting Activity: The Corporation for National & Community Service, Washington, DC.

Service Type/Location: ADA Compliance Investigator, Department of Transportation, Maritime Administration Headquarters, Washington, DC.

NPA: Federal Dispute Resolution Center, Alexandria, VA.

Contracting Activity: Department of Transportation, Maritime Administration.

Service Type/Location: Janitorial/Custodial, Marine Corps Reserve Training Center, 3506 South Memorial Parkway, Huntsville, AL.

NPA: Huntsville Rehabilitation Foundation, Huntsville, AL.

Contracting Activity: Department of the Navy, Marine Corps Reserve Training Center, Huntsville, AL.

Service Type/Location: Litigation Support Services, U.S. Department of Agriculture, The Animal and Plant Health Inspection Services, Agriculture Marketing Service, Minneapolis, MN.

NPA: Federal Dispute Resolution Center, Alexandria, VA.

Contracting Activity: U.S. Department of Agriculture, Animal & Plant Health Inspection Service, Minneapolis, MN.

Service Type/Location: Litigation Support Services, U.S. Department of Agriculture, Food and Nutrition Service, 3101 Park Center Drive, Alexandria, VA.

NPA: Federal Dispute Resolution Center, Alexandria, VA.

Contracting Activity: U.S. Department of Agriculture, Food and Nutrition Services, Alexandria, VA.

Kimberly M. Zeich,
Director, Program Operations.

[FR Doc. E7-11137 Filed 6-7-07; 8:45 am]

BILLING CODE 6353-01-P